DEPARTMENT OF LABOR

Employment and Training Administration

[TA-W-65,299]

United States Steel Great Lakes Works, Ecorse, MI; Notice of Termination of Investigation

Pursuant to Section 221 of the Trade Act of 1974, as amended, an investigation was initiated on February 19, 2009 in response to a petition filed by the United Steelworkers of America, Local 1299 on behalf of workers of United States Steel Great Lakes Works, Ecorse, Michigan.

The petitioning group of workers is covered by an earlier petition (TA-W-64,773) filed on December 19, 2008 that is the subject of an ongoing investigation for which a determination has not yet been issued. Further investigation in this case would duplicate efforts and serve no purpose; therefore the investigation under this petition has been terminated.

Signed in Washington, DC, this 24th day of February 2009.
Linda G. Poole,
Certifying Officer, Division of Trade Adjustment Assistance.

[FR Doc. E9-4551 Filed 3-3-09; 8:45 am]

BILLING CODE 4510-FN-P